DEPARTMENT OF ENERGY

Federal Energy Regulatory Commission

[Project No. 11964-000]

Symbiotics, LLC.; Notice of Extension of Time

August 29, 2001.

On July 16, 2001, Elese Teton, a representative for Shoshone-Bannock Tribes, requested an extension of time of the existing deadline to file its comments regarding the “Notice of Application Accepted for Filing and Soliciting Comments, Motions to Intervene, and Protests” (66 FR 28460, Published on May 23, 2001), for the Blackfoot Dam Hydroelectric Project, FERC No. 11964.

Upon consideration, notice is hereby given that a further extension of time for the filing of comments in the above proceeding is granted, extending the comment date to September 20, 2001.

David P. Boergers,
Secretary.

[FR Doc. 01-22228 Filed 9-4-01; 8:45 am]

BILLING CODE 6717-01-P